DEPARTMENT OF THE INTERIOR

Bureau of Land Management

[AK-910-1310-PP-ARAC]

Notice of Call for Nominations, Elected Official for the BLM Alaska Resource Advisory Council (RAC)

AGENCY: Bureau of Land Management, Interior.

ACTION: Notice.

SUMMARY: The purpose of this notice is to solicit nominations for the vacant elected official seat on the Bureau of Land Management's Alaska Resource Advisory Council. The council provides advice and recommendations to BLM on management of public lands in Alaska.

DATES: Submit a completed nomination form to the address listed below no later than March 23, 2006. Nomination forms are available at http://www.blm.gov/rac/ak/ak_index.htm, click on “Alaska” or contact the BLM Alaska RAC coordinator listed below.

FOR FURTHER INFORMATION CONTACT: Danielle Allen, BLM Alaska RAC Coordinator, Office of Communications (912), Bureau of Land Management, Alaska State Office, 222 W. 7th Avenue #13, Anchorage, AK 99513; telephone 907-271-3335.

SUPPLEMENTARY INFORMATION: The Federal Land Policy and Management Act (FLPMA) (43 U.S.C. 1730) directs the Secretary of the Interior to involve the public in planning and issues related to management of lands administered by BLM. Section 309 of FLPMA directs the Secretary to select 10 to 15 member citizen-based advisory councils that are consistent with the requirements of Federal Advisory Committee Act (FACA) (5 U.S.C. Appendix 1). Members serve without monetary compensation, but will be reimbursed for travel and per diem expenses at current rates for Government employees. As required by the FACA, RAC membership must be balanced and representative of the various interests concerned with the management of the public lands. BLM regulations governing RACs are found at 43 CFR Subpart 1784. Section 309 (a) of FLPMA, which states that at least one member of the advisory council must be an elected official of general purpose government serving the people within the jurisdiction of the council. The vacant seat on the Alaska Resource Advisory Council falls in category three as described in the regulations at 43 CFR 1784.6-1 (c) (3). Individuals may nominate themselves or others to serve on the RAC. Nominees must be residents of Alaska. The BLM will evaluate nominees based on their education, training, and experience and their knowledge of the geographical area of the RAC. Nominees should demonstrate a commitment to collaborative resource decision-making.

The following must accompany all nominations:

—Letters of reference from represented interests or organizations,

—A completed background information nomination form,

—Any other information that speaks to the nominee's qualifications.

Nomination forms are available from Danielle Allen, BLM Alaska RAC Coordinator, Office of Communications (912), Bureau of Land Management, Alaska State Office, 222 W. 7th Avenue #13, Anchorage, AK 99513; telephone 907-271-3335. Completed applications should be sent to the same address. Internet users may download the form from: http://www.blm.gov/rac/ak/ak_index.htm.

Authority: 43 CFR 1784.4-1.

Dated: December 27, 2005.
Henri R. Bisson,
State Director.

[FR Doc. E6-2389 Filed 2-17-06; 8:45 am]

BILLING CODE 4310-JA-P